DEPARTMENT OF HEALTH AND HUMAN SERVICES

Centers for Disease Control and Prevention

Advisory Committee on Immunization Practices (ACIP); Notice of Charter Renewal

AGENCY: Centers for Disease Control and Prevention (CDC), Department of Health and Human Services (HHS).

ACTION: Notice of charter renewal.

SUMMARY: This gives notice under the Federal Advisory Committee Act of October 6, 1972, that the Advisory Committee on Immunization Practices (ACIP), Centers for Disease Control and Prevention, Department of Health and Human Services, has been renewed for a 2-year period through April 1, 2026.

FOR FURTHER INFORMATION CONTACT: Melinda Wharton, M.D., M.P.H., Designated Federal Officer, Advisory Committee on Immunization Practices, Centers for Disease Control and Prevention, Department of Health and Human Services, 1600 Clifton Road NE, MS H24-8, Atlanta, Georgia 30329-4027, telephone (404) 639-8755, or fax (404) 471-8347.

SUPPLEMENTARY INFORMATION: CDC is providing notice under 5 U.S.C. 1001-1014 of the renewal of the charter of the Advisory Committee on Immunization Practices, Centers for Disease Control and Prevention, Department of Health and Human Services. This charter has been renewed for a two-year period through April 1, 2026.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-10835 Filed 5-16-24; 8:45 am]

BILLING CODE 4163-18-P